DEPARTMENT OF AGRICULTURE

Food Safety and Inspection Service

[Docket No. FSIS-2018-0006]

Availability of FSIS Guideline for Determining Whether a Livestock Slaughter or Processing Firm Is Exempt From the Inspection Requirements of the Federal Meat Inspection Act

AGENCY: Food Safety and Inspection Service, USDA.

ACTION: Notice of availability and request for comment.

SUMMARY: The Food Safety and Inspection Service (FSIS) is announcing the availability of and requesting comments on a guideline for businesses that slaughter livestock or process meat and meat food products on the exemptions to the inspection requirements of the Federal Meat Inspection Act. The guideline explains each of the exemptions, when they apply, and which FSIS regulatory requirements must still be met.

DATES: Submit Comments on or before July 24, 2018.

ADDRESSES: A downloadable version of the guideline is available to view and print at https://www.fsis.usda.gov/wps/portal/fsis/topics/regulatory-compliance/compliance-guides-index once copies of the guideline have been published.

FSIS invites interested persons to submit comments on this guideline. Comments may be submitted by one of the following methods:

• Federal eRulemaking Portal: This website provides the ability to type short comments directly into the comment field on this web page or attach a file for lengthier comments. Go to http://www.regulations.gov. Follow the on-line instructions at that site for submitting comments.

• Mail, including CD-ROMs, etc.: Send to Docket Clerk, U.S. Department of Agriculture, Food Safety and Inspection Service, 1400 Independence Avenue SW, Mailstop 3758, Room 6065, Washington, DC 20250-3700.

• Hand- or courier-delivered submittals: Deliver to 1400 Independence Avenue SW, Room 6065, Washington, DC 20250-3700.

Instructions: All items submitted by mail or electronic mail must include the Agency name and docket number FSIS-2018-0006. Comments received in response to this docket will be made available for public inspection and posted without change, including any personal information, to http://www.regulations.gov.

Docket: For access to background documents or comments received, call (202) 720-5627 to schedule a time to visit the FSIS Docket Room at 1400 Independence Avenue SW, Room 6065, Washington, DC 20250-3700.

FOR FURTHER INFORMATION CONTACT: Roberta Wagner, Assistant Administrator, Office of Policy and Program Development; Telephone: (202) 205-0495.

SUPPLEMENTARY INFORMATION:

Background

FSIS is the public health regulatory agency responsible for ensuring that meat, poultry, and egg products are safe, wholesome, and correctly labeled and packaged. For meat or meat food products, FSIS requires continuous inspection in the case of slaughter and at least daily inspection for processing, unless an exemption applies. The exemptions are located in the Federal Meat Inspection Act (FMIA) (21 U.S.C. 623 and 661) and in FSIS's regulations (9 CFR 303.1).

This guideline describes each of the exemptions, to whom they apply, and which FSIS regulatory requirements must still be met. It also provides updated information on emerging business models and trends in procurement, and sales, and distribution. Generally, livestock slaughtered or processed by the owner or that which is custom slaughtered for use by the owner and his or her family or non-paying guests are exempt from FSIS's inspection requirements. Also exempt from inspection are businesses that meet FSIS's definitions of retail stores, restaurants, restaurant central kitchens, or caterers.

Businesses operating under an exemption are not exempt from the adulteration and misbranding requirements of the FMIA and may be subject to State or local regulatory requirements. FSIS regulations requiring recordkeeping, access to places of business, and the opportunity for examination of facilities, inventory, and records still apply.

FSIS encourages interested parties (e.g., those to whom an exemption may apply) to follow this guideline. This guideline represents current FSIS thinking, and FSIS will update it as necessary to reflect comments received and any additional information that becomes available. FSIS is seeking comments on this guideline as part of its efforts to continuously assess and improve the effectiveness of policy documents.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov.

Persons with disabilities who require alternative means for communication (Braille, large print, audiotape, etc.), should contact USDA's TARGET Center at (202) 720-2600 (voice and TDD).

Done, at Washington, DC.
Paul Kiecker,
Acting Administrator.

[FR Doc. 2018-11299 Filed 5-24-18; 8:45 am]

BILLING CODE 3410-DM-P